NUCLEAR REGULATORY COMMISSION

[NRC-2016-0064]

Information Collection: NRC Form 850A, “Request for NRC Contractor Building Access Authorization” NRC Form 850B, “Request for NRC Contractor Information Technology Access Authorization” NRC Form 850C, “Request for NRC Contractor Security Clearance”

AGENCY: Nuclear Regulatory Commission.

ACTION: Notice of submission to the Office of Management and Budget; request for comment.

SUMMARY: The U.S. Nuclear Regulatory Commission (NRC) has recently submitted a request for renewal of an existing collection of information to the Office of Management and Budget (OMB) for review. The information collection is entitled, “NRC Form 850A, “Request for NRC Contractor Building Access Authorization” NRC Form 850B, “Request for NRC Contractor Information Technology Access Authorization” NRC Form 850C, “Request for NRC Contractor Security Clearance.”

DATES: Submit comments by January 27, 2017.

ADDRESSES: Submit comments directly to the OMB reviewer at: Vlad Dorjets, Desk Officer, Office of Information and Regulatory Affairs (3150-0218), NEOB-10202, Office of Management and Budget, Washington, DC 20503; telephone: 202-395-7315, email: oira_submission@omb.eop.gov.

FOR FURTHER INFORMATION CONTACT: David Cullison, NRC Clearance Officer, U.S. Nuclear Regulatory Commission, Washington, DC 20555-0001; telephone: 301-415-2084; email: INFOCOLLECTS.Resource@nrc.gov.

SUPPLEMENTARY INFORMATION:

I. Obtaining Information and Submitting Comments

A. Obtaining Information

Please refer to Docket ID: NRC-2016-0064 when contacting the NRC about the availability of information for this action. You may obtain publicly-available information related to this action by any of the following methods:

• Federal rulemaking Web site: Go to http://www.regulations.gov and search for Docket ID: NRC-2016-0064.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The supporting statement is available in ADAMS under Accession No. ML16355A312.

• NRC's PDR: You may examine and purchase copies of public documents at the NRC's PDR, Room O1-F21, One White Flint North, 11555 Rockville Pike, Rockville, Maryland 20852.

• NRC's Clearance Officer: A copy of the collection of information and related instructions may be obtained without charge by contacting the NRC's Clearance Officer, David Cullison, Office of the Chief Information Officer, U.S. Nuclear Regulatory Commission, Washington, DC 20555-0001; telephone: 301-415-2084; email: INFOCOLLECTS.Resource@NRC.GOV.

B. Submitting Comments

The NRC cautions you not to include identifying or contact information in comment submissions that you do not want to be publicly disclosed in your comment submission. All comment submissions are posted at http://www.regulations.gov and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

Under the provisions of the Paperwork Reduction Act of 1995 (44 U.S.C. Chapter 35), the NRC recently submitted a request for renewal of an existing collection of information to OMB for review entitled, “NRC Form 850A, “Request for NRC Contractor Building Access Authorization” NRC Form 850B, “Request for NRC Contractor Information Technology Access Authorization” NRC Form 850C, “Request for NRC Contractor Security Clearance.” The NRC hereby informs potential respondents that an agency may not conduct or sponsor, and that a person is not required to respond to, a collection of information unless it displays a currently valid OMB control number.

The NRC published a Federal Register notice with a 60-day comment period on this information collection on September 9, 2016 (81 FR 62546).

1. The title of the information collection: NRC Form 850A, “Request for NRC Contractor Building Access,” NRC Form 850B, “Request for NRC Contractor Information Technology Access Authorization,” and NRC Form 850C, “Request for NRC Contractor Security Clearance.”

2. OMB approval number: 3150-0218.

3. Type of submission: Extension.

4. The form number if applicable: NRC Form 850A, NRC Form 850B, and NRC Form 850C.

5. How often the collection is required or requested: On occasion.

6. Who will be required or asked to respond: NRC contractors, subcontractors and other individuals who are not NRC employees.

7. The estimated number of annual responses: 500.

8. The estimated number of annual respondents: 500.

9. An estimate of the total number of hours needed annually to comply with the information collection requirement or request: 85.

10. Abstract: 10 CFR part 10, “Criteria and Procedures for Determining Eligibility for Access to Restricted Data or National Security Information or an Employment Clearance,” establishes requirements that individuals requiring an access authorization and/or employment clearance must have an investigation of their background. NRC Forms 850A, 850B, and 850C will be used by the NRC to obtain information on NRC contractors, subcontractors, and other individuals who are not NRC employees and require access to NRC buildings, IT systems, sensitive information, sensitive unclassified information, or classified information.

Dated at Rockville, Maryland, this 21st day of December 2016.
For the Nuclear Regulatory Commission.
David Cullison,
NRC Clearance Officer, Office of the Chief Information Officer.

[FR Doc. 2016-31324 Filed 12-27-16; 8:45 am]

BILLING CODE 7590-01-P